FEDERAL MARITIME COMMISSION

Ocean Transportation Intermediary License Reissuances

The Commission gives notice that the following Ocean Transportation Intermediary licenses have been reissued pursuant to section 19 of the Shipping Act of 1984 (46 U.S.C. 40101) effective on the date shown.

License No.: 022069F.

Name: Unique Logistics International (ATL) LLC.

Address: 510 Plaza Drive, Suite 2290, Atlanta, GA 30349.

Date Reissued: October 15, 2012.

License No.: 015574N.

Name: WW Messenger & Shipping Co.

Address: 150 Main Street, Unit 9, Orange, NJ 07050.

Date Reissued: October 15, 2012.

Vern W. Hill,
Director, Bureau of Certification and Licensing.

[FR Doc. 2012-29445 Filed 12-5-12; 8:45 am]

BILLING CODE 6730-01-P